FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 010979-053.

Title: Caribbean Shipowners Association.

Parties: CMA CGM, S.A.; Seaboard Marine, Ltd.; Seafreight Line, Ltd.; Tropical Shipping and Construction Company Limited; and Zim Integrated Shipping Services, Ltd.

Filing Party: Wayne R. Rohde, Esq.; Cozen O'Connor, 1627 I Street NW.; Suite 1100; Washington, DC 20006.

Synopsis: The amendment would add Crowley Caribbean Services LLC as a party to the agreement.

Agreement No.: 012197.

Title: CMA CGM/HLAG U.S.-West Med Vessel Sharing and Slot Exchange Agreement.

Parties: CMA CGM S.A. and Hapag-Lloyd AG.

Filing Party: Wayne Rohde, Esq.; Cozen O'Connor; 1627 I Street NW.; Suite 1100; Washington, DC 20006.

Synopsis: The agreement authorizes the parties to share vessels and exchange space on their respective services in the trades between the U.S. Atlantic and Gulf Coasts and ports in Italy, France, Spain, Portugal, Malta and Morocco.

Agreement No.: 012198.

Title: CSCL/UASC Vessel Sharing and Slot Exchange Agreement.

Parties: China Shipping Container Lines Co., Ltd. and China Shipping Container Lines (Hong Kong) Co., Ltd. (acting as a single party); and United Arab Shipping Company.

Filing Party: Patricia M. O'Neill; Blank & Rome LLP; 600 New Hampshire Ave. NW.; Washington DC, 20037.

Synopsis: The agreement authorizes the parties to share space on vessels in the trade between the West Coasts of the U.S. and Canada on the one hand, and Asia, including China and South Korea on the other hand.

By Order of the Federal Maritime Commission.
Dated: March 29, 2013.
Rachel E. Dickon,
Assistant Secretary.

[FR Doc. 2013-07735 Filed 4-2-13; 8:45 am]

BILLING CODE P